FEDERAL MARITIME COMMISSION

Sunshine Act Meetings

TIME AND DATE: May 18, 2022; 10:00 a.m.

PLACE: This meeting will be held at the Federal Maritime Commission at the address below and also streamed live at www.fmc.gov.

800 N Capitol Street NW, 1st Floor Hearing Room, Washington, DC

STATUS: Part of the meeting will be open to the public: Held in-person with a limited capacity for public attendants and also available to view streamed live, accessible from www.fmc.gov. The rest of the meeting will be closed to the public.

Requests to register to attend the meeting in-person should be submitted to secretary@fmc.gov and contain “May 18, 2022 Meeting” in the subject line. Interested members of the public have until 5:00 p.m. (Eastern) Monday, May 16, 2022, to register to attend in-person. Seating for members of the public is limited and will be available on a first-come, first-served basis for those who have registered in advance. Health and safety protocols for meeting attendees will depend on the COVID-19 Community Transmission Level for Washington DC as determined on Friday, May 12, 2022. Pre-registered attendees will be notified of the required health and safety protocols before the meeting and no later than Tuesday, May 17, 2022.

MATTERS TO BE CONSIDERED:

Portions Open to the Public

1. Commissioner Dye, Update on Fact Finding 29: International Ocean Transportation Supply Chain Engagement

2. Commissioner Bentzel, Assessment of the People's Republic of China's Control of Container and Intermodal Chassis Manufacturing

3. Staff Briefing on Carrier Automated Tariffs

4. Staff Update on Vessel-Operating Common Carrier Audit Program

Portions Closed to the Public

1. Staff Update on Vessel-Operating Common Carrier Audit Program

CONTACT PERSON FOR MORE INFORMATION: William Cody, Secretary, (202) 523-5725.

William Cody,
Secretary.

[FR Doc. 2022-10432 Filed 5-11-22; 11:15 am]

BILLING CODE 6730-02-P